DEPARTMENT OF HOMELAND SECURITY

Coast Guard

[CGD01-05-062]

Implementation of Sector Northern New England, Sector Boston, Sector Long Island Sound and Sector New York

AGENCY: Coast Guard, DHS.

ACTION: Notice of organizational change.

SUMMARY: This notice explains the details associated with the establishment of Sectors in the First Coast Guard District. The date on which all boundaries of areas of responsibility will shift is June 30, 2005 set to coincide with the stand-up of Sector Northern New England, which is the final Sector being established in 2005. Each Sector Commander will have the authority, responsibility and missions of the previous corresponding Group, Captain of the Port (COTP) and Marine Safety Offices in the zones identified in this notice. The Coast Guard has established a continuity of operations whereby all previous practices and procedures will remain in effect until superseded by an authorized Coast Guard official or document.

DATES: The effective dates of Sector stand-up are: Sector Northern New England on June 30, 2005; Sector Boston on March 31, 2005; Sector Long Island Sound on May 31, 2005; and Sector New York on May 20, 2005.

ADDRESSES: Documents indicated in this preamble as being available in the docket are part of docket CGD01-05-062 and are available for inspection or copying at Commander, First Coast Guard District (dpl), 8th Floor, 408 Atlantic Ave., Boston, MA 02110, between 7:30 a.m. and 4:30 p.m., Monday through Friday, except Federal Holidays.

FOR FURTHER INFORMATION CONTACT: The Coast Guard's First District Planning Office, (617) 223-8138, between 7 a.m. and 3:30 p.m., Monday through Friday, except Federal holidays.

SUPPLEMENTARY INFORMATION:

Drafting Information

The principal person involved in drafting this document is LTJG Daniel Huelsman, USCG, First Coast Guard District.

Discussion of Notice

This notice confirms the stand-up of Sector Northern New England, Sector Boston, Sector Long Island Sound, and Sector New York. Boundaries of areas of responsibility for Sectors Boston and Long Island Sound changed on the date of stand-up. Boundaries for Sector New York and Sector NNE will change simultaneously on June 30, 2005. The restructuring described in this notice is internal to the Coast Guard. The purpose of this organizational change is to strengthen unity of command in our port, waterway and coastal areas of operation.

The following information applies equally to Sector Northern New England (NNE), Sector Boston, Sector Long Island Sound and Sector New York. Each Sector will contain a single integrated command center, which provides a common operating picture. Each Sector is composed of three departments: Namely, the Response Department, Prevention Department, and the Logistics Department.

Where needed, the Search and Rescue (SAR) boundary will be changed to align with the COTP boundary for each sector as described in this notice. Each sector's area of responsibility for SAR will be maintained in accordance with the District SAR Plan.

Each Sector Commander is vested with all the rights, responsibilities, duties, and authority of a Group Commander and Commanding Officer, Marine Safety Office, as provided for in Coast Guard regulations, and is the successor in command to the Commanding Officer of the relevant Marine Safety Office and the Commander of the relevant Group. For Sector New York, this merger of responsibility occurred previously, upon the creation of Activities New York in 1996. Within the relevant zones described below, each Sector Commander is designated: (a) Captain of the Port (COTP); (b) Federal Maritime Security Coordinator (FMSC); (c) Federal On-Scene Coordinator (FOSC) consistent with the National Contingency Plan; (d) Officer In Charge, Marine Inspection (OCMI); and (e) Search and Rescue Mission Coordinator (SMC).

The First District Commander may also designate the Sector Commander as mission coordinator for search and rescue and law enforcement operations beyond the exclusive economic zone. Each Deputy Sector Commander is designated alternate COTP, FMSC, FOSC, SMC, and acting OCMI. For each Sector, separate continuity of operations orders have been issued providing that all previous Marine Safety Office, Group, or Activities practices and procedures will remain in effect until superseded by the relevant Sector Commander. The continuity of operations orders address existing COTP regulations, orders, directives and policies.

As a result of the Sector realignment, two previous Coast Guard Groups are now Sector Field Offices. Specifically, Sector Field Office Moriches replaced the previously existing Group Moriches, which is incorporated into Sector Long Island Sound. Sector Field Office Southwest Harbor replaced the previously existing Group Southwest Harbor and is incorporated into Sector NNE.

1. Sector Northern New England

Sector Northern New England (Sector NNE) is located at 259 High Street, South Portland, Maine. Sector NNE is responsible for all Coast Guard missions in the following Marine Inspection and Captain of the Port Zone. The zone starts at the boundary of the Massachusetts and New Hampshire coasts at 42°52.3′ N latitude, 70°49.0′ W longitude and proceeds seaward on a line bearing 090°T to the outermost extent of the EEZ; thence northerly and westerly along the outermost extent of the EEZ and the Canadian border to longitude 74°39.0′ W within New York; thence due south to latitude 43°36.0′ North; thence easterly through Whitehall, NY to the Vermont border; thence southerly along the Vermont border to the intersection of the Vermont-New York-Massachusetts boundaries; thence east along the Vermont-Massachusetts and New Hampshire-Massachusetts boundaries to the point of origin.

Command and control for Station Burlington will transfer from Sector New York (formerly Activities New York) to Sector Northern New England as of June 30, 2005. The break point at Whitehall, NY allows a natural split between lake and river (Hudson River) traffic for marine safety missions and is also the established break for search and rescue (SAR) and aids to navigation (AtoN) missions between Station Burlington, Station New York and Aids to Navigation Team Saugerties.

All existing missions and functions performed by MSO Portland, Group Portland and Group Southwest Harbor have been realigned under this new organizational structure as of June 30, 2005, and MSO Portland, Group Portland, and Group Southwest Harbor no longer exist as separate organizational entities.

The area of responsibility for Sector Northern New England will also incorporate Sector Field Office Southwest Harbor units to include Coast Guard Station Jonesport, Station Eastport, Station Southwest Harbor, Station Rockland, Aids to Navigation Team Southwest Harbor, CGC Moray (WPB), CGC Tackle (WYTL), CGC Bridle (WYTL), CGC Thunder Bay (WTGB), and Loran Station Caribou. SFO South West Harbor will retain its current authorities and functions with command and control over subordinate units for the time being.

The following is updated address and point of contact information to facilitate requests from the public:

Name: Sector Northern New England.

Address: Commander, U.S. Coast Guard Sector Northern New England, 259 High Street, South Portland, ME 04106.

Contact: General Number, (207) 767-0320.

2. Sector Boston

Sector Boston is located at 427 Commercial Street, Boston, Massachusetts. All existing missions and functions performed by Marine Safety Office (MSO) Boston and Group Boston have been realigned under this new organizational structure as of March 31, 2005, and MSO Boston and Group Boston no longer exist as separate organizational entities.

Sector Boston is responsible for all Coast Guard missions in the following Marine Inspection Zone and Captain of the Port Zone. The zone starts at the boundary of the Massachusetts and New Hampshire coasts at 42°-52.3′ N latitude, 70°-49.0′ W longitude and proceeds seaward on a line bearing 090°T to the outermost extent of the EEZ; thence southeast along the outermost extent of the EEZ to 42°-08.0′N latitude; thence west to 42°-08.0′N latitude, 70°-15.0′W longitude; thence southwest to the Massachusetts coast at Manomet Point at 41°-55.0′N latitude, 70°-33.0′W longitude; thence northwest to 42°-04.0′N latitude, 71°-06.0′W longitude; thence to the Massachusetts and Rhode Island boundaries at 42°-01.5′N latitude, 71°-28.0′W longitude; thence west along the southern boundary of Massachusetts, except the waters of Congamond Lakes; thence north along the Massachusetts-New York boundary to the intersection of the Massachusetts-New York-Vermont boundaries; thence east along the Massachusetts-Vermont boundary and the Massachusetts-New Hampshire boundary to the point of origin.

The following is updated address and point of contact information to facilitate requests from the public:

Name: Sector Boston.

Address: Commander, U.S. Coast Guard Sector Boston, 427 Commercial Street, Boston, Massachusetts 02109.

Contact: General Number, (617) 223-3000.

3. Sector Long Island Sound

Sector Long Island Sound is located at 120 Woodward Avenue, New Haven, Connecticut. All existing missions and functions performed by Group/Marine Safety Office (MSO) Long Island Sound have been realigned under this new organizational structure as of May 31, 2005, and Group/MSO Long Island Sound no longer exists as an organizational entity.

Sector Long Island Sound is responsible for all Coast Guard missions in the following Marine Inspection and Captain of the Port Zone. The zone starts at 40°35.4′N latitude, 73°46.6′W longitude; thence proceeds along a line northeasterly to 40°40.0′ N latitude, 73°40.0′W longitude; thence to 40°52.5′N latitude, 73°37.2′W longitude; thence northwest to the south shore of Manursing Island at 40°58.0′N latitude, 73°40.0′W longitude; thence northerly to the Connecticut-New York boundary at 41°01.5′N latitude, 73°40.0′W longitude; thence north along the western boundary of Connecticut to the Massachusetts-Connecticut boundary; thence east along the southern boundary of Massachusetts, including the waters of the Congamond Lakes, to the Rhode Island boundary; thence south along the Connecticut-Rhode Island boundary, excluding the waters of Beach Pond, to 41°24.0′N latitude, 71°48.0′W longitude; thence southerly to 41°21.0′N latitude, 71°48.5′W. longitude at Westerly, Rhode Island; thence southwesterly to Watch Hill Light, Rhode Island. The northern offshore boundary is a line bearing 132°T from Watch Hill Light to the outermost extent of the EEZ. The southern offshore boundary extends along a line bearing 127.5°T from the south shore of Long Island at 40°35.4′N latitude, 73°46.6′W longitude to 38°28.0′N latitude, 70°11.0′W longitude; thence easterly to the outermost extent of the EEZ; thence northerly along the outermost extent of the EEZ to the intersection of the northern boundary.

The area of responsibility for Sector Long Island Sound also incorporates Sector Field Office Moriches” units to include Coast Guard Station Montauk, Station Shinnecock, Station (Small) East Moriches, Station Fire Island, Station Jones Beach, CGC Ridley (WPB) and Aids to Navigation Team Moriches. However, SFO Moriches will retain its current Group authorities and functions with command and control over subordinate units for the time being.

The following information is updated address and point of contact information to facilitate requests from the public and assist with entry into security or safety zones:

Name: Sector Long Island Sound.

Address: Commander, U.S. Coast Guard Sector Long Island Sound, 120 Woodward Avenue, New Haven, CT 06512.

Contact: General Number, (203) 468-4472.

4. Sector New York

Sector New York is located at 212 Coast Guard Drive, Staten Island, NY. All existing missions and functions performed by Activities New York have been realigned under this new organizational structure as of May 20, 2005, and Activities New York no longer exists as an organizational entity.

Sector New York is responsible for all Coast Guard missions in the following Marine Inspection and Captain of the Port Zone. The zone for Sector New York starts on the south shore of Long Island at 40°35.4′N latitude, 73°46.6′W longitude and proceeds southeasterly along a line bearing 127.5°T to 38°28.0′N latitude, 70°11.0′W longitude; thence northwesterly along a line bearing 122°T from the New Jersey coast at 40°18.0′N latitude; thence west along 40°18.0′N latitude to 74°30.5′W longitude; thence northwesterly to the intersection of the New York-New Jersey-Pennsylvania boundaries at Tristate; thence northwesterly along the east bank of the Delaware River to 42°00.0′N latitude; thence east to 74°39.0′W longitude; thence north to the 43°36.0′N latitude; thence easterly through Whitehall, NY to the New York-Vermont border; thence southerly along the New York boundary to 41°01.5′N latitude, 73°40.0′W longitude; thence southerly to the southern shore of Manursing Island at 40°58.0′N latitude, 73°40.0′W longitude; thence southeasterly to 40°52.5′N latitude, 73°37.2′W longitude; thence southerly to 40°40.0′N latitude, 73°40.0′W longitude; thence southwesterly to the point of origin.

The following is updated command address and point of contact information to facilitate requests from the public:

Name: Sector New York.

Address: Commander, U.S. Coast Guard Sector New York, 212 Coast Guard Drive, Staten Island, NY 10305.

Contact: General Number, (718) 354-4037.

Dated: June 20, 2005.
David P. Pekoske,
Rear Admiral, U.S. Coast Guard, Commander, First Coast Guard District.

[FR Doc. 05-12654 Filed 6-24-05; 8:45 am]

BILLING CODE 4910-15-P